FEDERAL COMMUNICATIONS COMMISSION

47 CFR Part 1

[WC Docket No. 17-84, WT Docket No. 17-79; FCC 18-111]

Accelerating Wireline Broadband Deployment by Removing Barriers to Infrastructure Investment

AGENCY: Federal Communications Commission.

ACTION: Final rule; announcement of effective date.

SUMMARY: In this document, the Commission announces that the Office of Management and Budget (OMB) has approved, for a period of three years, the information collection associated with the Commission's revised pole attachment complaint rules. This document is consistent with Accelerating Wireline Broadband Deployment by Removing Barriers to Infrastructure Investment, Third Report and Order and Declaratory Ruling, FCC 18-111, which stated that the Commission would publish a document in the Federal Register announcing the effective date of the revised rules.

DATES: The amendment to 47 CFR 1.1413, published at 83 FR 46812, September 14, 2018, is effective March 11, 2019.

FOR FURTHER INFORMATION CONTACT: Michael Ray, Attorney Advisor, Wireline Competition Bureau, at (202) 418-0357, or by email at Michael.Ray@fcc.gov. For additional information concerning the Paperwork Reduction Act information collection requirements, contact Nicole Ongele at (202) 418-2991 or nicole.ongele@fcc.gov.

SUPPLEMENTARY INFORMATION: This document announces that, on January 28, 2019, OMB approved, for a period of three years, the information collection requirements relating to the pole attachment complaint rules contained in the Commission's Accelerating Wireline Broadband Deployment by Removing Barriers to Infrastructure Investment, Third Report and Order and Declaratory Ruling, FCC 18-111, published at 83 FR 46812, September 14, 2018. The OMB Control Number is 3060-0392. The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Number, 3060-0392, in your correspondence. The Commission also will accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on January 28, 2019 for the information collection requirements contained in the modifications to the Commission's pole attachment complaint rules in 47 CFR 1.1413.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0392.

The foregoing notice is required by the Paperwork Reduction Act of 1995, Public Law 104-13, October 1, 1995, and 44 U.S.C. 3507.

The total annual reporting burdens and costs for the affected respondents are as follows:

OMB Control Number: 3060-0392.

OMB Approval Date: January 28, 2019.

OMB Expiration Date: January 31, 2022.

Title: 47 CFR part 1, subpart J—Pole Attachment Complaint Procedures.

Form Number: N/A.

Respondents: Business or other for-profit entities.

Number of Respondents and Responses: 1,775 respondents; 1,791 responses.

Estimated Time per Response: 10-14 hours.

Frequency of Response: On occasion reporting and third-party disclosure requirements.

Obligation to Respond: Required to obtain benefits. Statutory authority for this information collection is contained in 47 U.S.C. 224.

Total Annual Burden: 3,149 hours.

Total Annual Cost: $486,000.

Nature and Extent of Confidentiality: No questions of a confidential nature are asked. However, respondents may request that materials or information submitted to the Commission in a complaint proceeding be withheld from public inspection under 47 CFR 0.459.

Privacy Act Impact Assessment: No impact(s).

Needs and Uses: The Commission received OMB approval for a revision to an existing information collection. OMB Collection No. 3060-0392, among other things, tracks the burdens associated with utilities defending against complaints brought by incumbent local exchange carriers (LECs) related to unreasonable rates, terms, and conditions for pole attachments. In Accelerating Wireline Broadband Deployment by Removing Barriers to Infrastructure Investment, Third Report and Order and Declaratory Ruling, FCC 18-111, the Commission, among other things, revised 47 CFR 1.1413 to establish a presumption that an incumbent LEC is similarly situated to an attacher that is a telecommunications carrier or a cable television system providing telecommunications services for purposes of obtaining comparable pole attachment rates, terms, or conditions. The Commission also established a presumption that an incumbent LEC may be charged no higher than the Commission-defined pole attachment rate for telecommunications carriers, as determined in accordance with 47 CFR 1.1406(d)(2). To rebut these presumptions, the utility must demonstrate by clear and convincing evidence that the incumbent LEC receives benefits under its pole attachment agreement with a utility that materially advantages the incumbent LEC over other telecommunications carriers or cable television systems providing telecommunications services on the same poles. As a result, now there is an incremental paperwork burden on utilities should they elect to challenge the presumption that incumbent LECs are entitled to rates, terms, and conditions of similarly-situated telecommunications attachers. None of the other paperwork burdens as set forth in the 2018 renewal of OMB Collection No. 3060-0392 will change. The Commission will use the information collected under this revision to 47 CFR 1.1413 to hear and resolve pole attachment complaints brought by incumbent LECs and to determine the merits of the complaints.

Federal Communications Commission.
Marlene Dortch,
Secretary, Office of the Secretary.

[FR Doc. 2019-01312 Filed 2-6-19; 8:45 am]

BILLING CODE 6712-01-P